DEPARTMENT OF THE INTERIOR

Bureau of Land Management

[212.LLWO230000. L11700000.PH0000.LXSGPL000000]

Notice of Availability of the Record of Decision for Greater Sage-Grouse Management, Utah

AGENCY: Bureau of Land Management, Interior.

ACTION: Notice of availability.

SUMMARY: The Bureau of Land Management (BLM) announces the availability of the Record of Decision (ROD) for the management of Greater Sage-Grouse habitat in Utah. The BLM has determined that its decade-long planning and NEPA processes have sufficiently addressed Greater Sage-Grouse habitat conservation and no new land use planning process to consider additional alternatives or new information is warranted. This determination is not a new planning decision. Instead, it is a determination not to amend the applicable land use plans. Thus, it is not subject to appeal or protest. The BLM's decision remains as identified in the 2019 Approved Resource Management Plan Amendment for Greater Sage-Grouse conservation in Utah.

ADDRESSES: Copies of the ROD are available for public inspection at the Utah Bureau of Land Management State Office at 440 West 200 South, Suite 500, Salt Lake City, Utah 84101-1345. Interested persons may also review the ROD on the internet at: https://eplanning.blm.gov/eplanning-ui/project/103346/510.

FOR FURTHER INFORMATION CONTACT: Christine Fletcher, Utah Sage-Grouse Implementation Lead, at 435-865-3035; Utah Bureau of Land Management State Office, 440 West 200 South, Suite 500, Salt Lake City, Utah 84101-1345; cfletcher@blm.gov. Persons who use a telecommunications device for the deaf (TDD) may call the Federal Relay Service (FRS) at 1-800-877-8339 to contact Mrs. Fletcher during normal business hours. The FRS is available 24 hours a day, 7 days a week, to leave a message or question. You will receive a reply during normal business hours.

SUPPLEMENTARY INFORMATION: The BLM issued this ROD to document the agency's determination regarding the analysis contained in the final supplemental Environmental Impact Statement (EIS) (85 FR 74379). With the issuance of this ROD, the BLM has now completed several planning and NEPA processes for Greater Sage-Grouse management in Utah over roughly the last decade, which include the processes that culminated in the 2015 ROD and the Approved Resource Management Plan Amendment (the 2015 planning process), the 2019 ROD and Approved Resource Management Plan Amendment (the 2019 planning process), and this 2020 ROD (the 2020 supplemental EIS process). Together, these processes represent a thorough analysis of Greater Sage-Grouse management, substantial public engagement, and important coordination with state wildlife agencies, other federal agencies, and many others in the range of the species that have been collaborating to conserve Greater Sage-Grouse and its habitats.

The BLM prepared the final supplemental EIS in order to review its previous NEPA analysis, clarify and augment it where necessary, and provide the public with additional opportunities to review and comment. It also helped the BLM determine whether its 2015 and 2019 land use planning and NEPA processes sufficiently addressed Greater Sage-Grouse habitat conservation or whether the BLM should initiate a new land use planning process to consider additional alternatives or new information.

The final supplemental EIS addressed four specific issues: The range of alternatives, need to take a hard look at environmental impacts, cumulative effects analysis, and the BLM's approach to compensatory mitigation. Rationale to support BLM's determination, with respect to each of these topical areas, is summarized below and described further in the ROD:

(1) Range of Alternatives: Throughout the decade-long planning and NEPA processes, the BLM has analyzed in detail 143 alternatives across the range of Greater Sage-Grouse. Additionally, the BLM has continued to review new science as it is published, which affirms that the BLM has considered a full range of plan-level conservation measures in the alternatives already analyzed.

(2) Hard Look: The BLM has continued to take a hard look at environmental impacts every step of the way in planning for Greater Sage-Grouse habitat conservation. In the 2015 planning process, the 2019 planning process, and in the 2020 supplemental EIS process, the BLM incorporated detailed analysis of environmental impacts into our decision-making processes and disclosed these expected impacts to the public. As scientific information has continued to evolve, the BLM has closely reviewed and considered any changes from such science to expected environmental impacts, both at the land use plan scale and in site-specific analyses. To address public comments raised during the supplemental EIS process, the BLM convened a team of biologists and land use planners to evaluate scientific literature provided to the agency. The BLM found that the most up-to-date Greater Sage-Grouse science and other information has incrementally increased, and built upon, the knowledgebase of Greater Sage-Grouse management evaluated by the BLM most recently in its 2019 land use plan amendments, but does not change the scope or direction of the BLM's management; however, new science does suggest adaptations to management may be warranted at site-specific scales.

(3) Cumulative Effects Analysis: The BLM considered cumulative impacts on a rangewide basis, organizing that analysis at the geographic scale of each Western Association of Fish and Wildlife Agencies (WAFWA) management zone, in order to consider impacts at biologically meaningful scales. In the 2019 planning process, the BLM incorporated by reference cumulative effects analysis conducted in the 2015 planning process and other environmental impact statements. Since the nature and context of the cumulative effects scenario has not appreciably changed since 2015, and the 2015 analysis covered the entire range of the Greater Sage-Grouse, the BLM's consideration of cumulative effects in the 2015 planning process adequately addresses most, if not all, of the planning decisions made through the 2019 planning process.

While the 2019 planning process largely incorporated by reference the analysis from the 2015 planning process, and updated it where needed to account for current conditions, the 2020 supplemental EIS process elaborated on this information in greater detail and updated the analysis to ensure that the BLM appropriately evaluated cumulative effects at biologically meaningful scales.

(4) BLM's Approach to Compensatory Mitigation: In the 2019 planning process, the BLM requested public comments on a number of issues, including the BLM's approach to compensatory mitigation. As part of the 2015 Approved Resource Management Plan Amendments, the BLM selected a net conservation gain standard in its approach to compensatory mitigation, which the 2019 land use plan amendments modified to align with the BLM's 2018 policy on compensatory mitigation. Through the 2020 supplemental EIS process, the BLM requested further comments about the BLM's approach to compensatory mitigation. After reviewing the comments that the BLM received about compensatory mitigation, the BLM determined that its environmental analysis supporting the 2019 land use plan amendments was sound. The public has now had substantial opportunities to consider and comment on the BLM's approach to compensatory mitigation at the land use planning level, including the approach taken in the 2019 land use plan amendments.

Based on the final supplemental EIS, the BLM has determined that its decade-long planning and NEPA processes have sufficiently addressed Greater Sage-Grouse habitat conservation and no new land use planning process to consider additional alternatives or new information is warranted. This determination is not a new planning decision. Instead, it is a determination not to amend the applicable land use plans. Thus, it is not subject to appeal or protest. The BLM's decision remains as identified in the 2019 Approved Resource Management Plan Amendment for Greater Sage-Grouse conservation in Utah.

(Authority: 40 CFR 1505.2; 40 CFR 1506.6; References to the CEQ regulations are to the regulations in effect prior to September 14, 2020. The revised CEQ regulations effective September 14, 2020, are not cited because this supplemental EIS process began prior to that date.)

Gregory Sheehan,
BLM Utah State Director.

[FR Doc. 2021-00665 Filed 1-13-21; 8:45 am]

BILLING CODE 4310-DQ-P